DEPARTMENT OF AGRICULTURE

Agricultural Marketing Service

[Docket No. FV00-929-1NC]

Notice of Request for Information Collection

AGENCY: Agricultural Marketing Service, USDA

ACTION: Notice and request for comments.

SUMMARY: In accordance with the Paperwork Reduction Act of 1995 (44 U.S.C. Chapter 35), this notice announces the Agricultural Marketing Service's (AMS) intention to request approval of a new information collection for Cranberries Grown in the States of Massachusetts, Rhode Island, Connecticut, New Jersey, Wisconsin, Michigan, Minnesota, Oregon, Washington, and Long Island in the State of New York, Marketing Order No. 929.

DATES: Comments on this notice must be received by May 30, 2000.

ADDITIONAL INFORMATION OR COMMENTS: Contact Caroline C. Thorpe, Marketing Specialist, Marketing Order Administration Branch, Fruit and Vegetable Programs, AMS, USDA, room 2525-S., Post Office Box 96456, Washington, DC 20090-6456; Tel: (202) 720-8139, Fax: (202) 720-5698, or E-mail: moab.docketclerk@usda.gov.

SUPPLEMENTARY INFORMATION: Title: Cranberries Grown in the States of Massachusetts, Rhode Island, Connecticut, New Jersey, Wisconsin, Michigan, Minnesota, Oregon, Washington, and Long Island in the State of New York, Marketing Order No. 929.

OMB Number: 0581-0103.

Expiration Date of Approval: September 30, 2002.

Type of Request: Revision of a currently approved information collection.

Abstract: Marketing order programs provide an opportunity for producers of fresh fruits, vegetables and specialty crops, in a specified production area, to work together to solve marketing problems that cannot be solved individually. Order regulations help ensure adequate supplies of high quality product and adequate returns to producers. Under the Agricultural Marketing Agreement Act of 1937 (AMAA), as amended (7 U.S.C. 601-674) industries enter into marketing order programs. The Secretary of Agriculture is authorized to oversee the order operations and issue regulations recommended by a committee of representatives from each commodity industry.

The information collection requirements in this request are essential to carry out the intent of the AMAA, to provide the respondents the type of service they request, and to administer the program, which has operated since 1962.

The cranberry marketing order regulates the handling of cranberries grown in the states of Massachusetts, Rhode Island, Connecticut, New Jersey, Wisconsin, Michigan, Minnesota, Oregon, Washington, and Long Island in the State of New York, hereinafter referred to as the “order.” The order authorizes the issuance of allotment provisions for producers and regulates the quantities of cranberries handled. The order also has research and development authority.

The order, and rules and regulations issued thereunder, authorize the Cranberry Marketing Committee (Committee), the agency responsible for local administration of the order, to require handlers and producers to submit certain information. Much of this information is compiled in aggregate and provided to the industry to assist in marketing decisions.

Forms are developed as a means for persons to file required information with the Committee relating to cranberry supplies, shipments, dispositions, and other information needed to effectively carry out the purpose of the AMAA and order. The order permits the Committee to determine whether to use allotment percentage authority, in which producers are limited to a specified percentage of their cranberries that handlers may handle(purchase and/or sell) on their behalf. Individual producer allotments are based on their sales history, defined as the best four of the preceding six years total commercial sales of cranberries from their acreage. Use of these forms will ensure better administration of the order and grower compliance with the order, should allotment provisions of the order be implemented.

This notice announces the request for approval by OMB of two forms. The first form, “Growers Notice of Intent to Produce and Qualifying for Annual Allotment Form” (CMC—AL 1), is authorized under § 929.49 of the order. This form would be completed by growers in the event volume regulation is implemented. The Committee would require all growers to qualify for that allotment by filing with the Committee, on or before April 15 of each year. This form requires growers to provide certain information including: (1) The location of their cranberry producing acreage from which their annual allotment will be produced; (2) the amount of existing or new acreage which will be harvested; and (3) other information including: total acreage to be harvested during the crop year; crop harvested during previous year; and name(s) of handler(s) through which a grower has sold his or her crop. Authority for this collection is specified under § 929.49. This form helps ensure compliance of allotment regulations by growers.

The second form, the “Allotment Transfer and Disposition Agreement” form (CMC—T7), is authorized under § 929.151(c). Growers who complete this form may enter into an agreement with a handler or handlers as to the disposition of the grower's annual allotment. The terms of the agreement are required to be contained in this form and must include: the quantity of the allotment available to the handler for transfer; the effective date of the agreement; and the signature of the grower and the handler or their authorized representatives.

These forms are needed to ensure efficient administration of the order and permit all industry members the opportunity to plan transfers and dispositions of their cranberries.

The forms covered under this information collection require the minimum information necessary to effectively carry out the requirements of the order, and their use is necessary to fulfill the intent of the AMAA as expressed in the order, and the rules and regulations issued under the order.

The information collected is used only by authorized representatives of the USDA, including AMS, Fruit and Vegetable Programs' regional and headquarter's staff, and authorized employees of the Committee. Authorized Committee employees and the industry are the primary users of the information, and AMS is the secondary user.

Estimate of Burden: Public reporting burden for this collection of information is estimated to average .33 hours per response.

Respondents: Cranberry growers and handlers in the States of Massachusetts, Rhode Island, Connecticut, New Jersey, Wisconsin, Michigan, Minnesota, Oregon, Washington, and Long Island in the State of New York.

Estimated Number of Respondents: 1,285.

Estimated Number of Responses per Respondent: 2.

Estimated Total Annual Burden on Respondents: 848 hours.

Comments: Comments are invited on: (1) Whether the proposed collection of the information is necessary for the proper performance of the functions of the agency, including whether the information will have practical utility; (2) the accuracy of the agency's estimate of the burden of the proposed collection of information including the validity of the methodology and assumptions used; (3) ways to enhance the quality, utility and clarity of the information to be collected; and (4) ways to minimize the burden of the collection of information on those who are to respond, including through the use of appropriate automated, electronic, mechanical, or other technological collection techniques or other forms of information technology.

Comments should reference OMB No. 0581-0103 and the Cranberry Marketing Order No. 929, and be mailed to Docket Clerk, Fruit and Vegetable Programs, AMS, USDA, P.O. Box 96456, Room 2525-S, Washington, D.C. 20090-6456; Fax (202) 720-5698; or E-mail: moab.docketclerk&usda.gov. Comments should reference the docket number and the date and page number of this issue of the Federal Register. All comments received will be available for public inspection in the Office of the Docket Clerk during regular USDA business hours at 14th and Independence Ave., S.W., Washington, D.C., room 2525-S.

All responses to this notice will be summarized and included in the request for OMB approval. All comments will also become a matter of public record.

Dated: March 24, 2000.
Robert C. Keeney,
Deputy Administrator, Fruit and Vegetable Programs.

[FR Doc. 00-7853 Filed 3-29-00; 8:45 am]

BILLING CODE 3410-02-P